DEPARTMENT OF TRANSPORTATION

Federal Aviation Administration

14 CFR Part 39

[Docket No. FAA-2005-21139; Directorate Identifier 2003-NM-196-AD]

RIN 2120-AA64

Airworthiness Directives; Bombardier Model CL600-1A11 (CL-600), Model CL-600-2A12 (CL-601), and Model CL-600-2B16 (CL-601-3A, CL-601-3R, and CL-604) Series Airplanes

AGENCY: Federal Aviation Administration (FAA), Department of Transportation (DOT).

ACTION: Notice of proposed rulemaking (NPRM).

SUMMARY: The FAA proposes to adopt a new airworthiness directive (AD) for certain Bombardier Model CL600-1A11 (CL-600), Model CL-600-2A12 (CL-601), and Model CL-600-2B16 (CL-601-3A, CL-601-3R, and CL-604) series airplanes. This proposed AD would require operators to assign serial numbers or part numbers to certain landing gear parts; and to establish the number of landings on the parts, if necessary. This proposed AD also would require operators to revise the Airworthiness Limitations section of the Instructions for Continued Airworthiness to reflect the new life limits of the landing gear parts. This proposed AD is prompted by reports that landing gear parts that have safe-life limits but do not have serial numbers or part numbers can be removed from one landing gear and re-installed on another, making tracking difficult. We are proposing this AD to prevent life-limited landing gear parts from being used beyond their safe-life limits, which could lead to collapse of the landing gear.

DATES: We must receive comments on this proposed AD by June 8, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: room PL-401 on the plaza level of the Nassif Building, 400 Seventh Street SW., Washington, DC, between 9 a.m. and 5 p.m., Monday through Friday, except Federal holidays.

For service information identified in this proposed AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2005-21139; the directorate identifier for this docket is 2003-NM-196-AD.

FOR FURTHER INFORMATION CONTACT: Serge Napoleon, Aerospace Engineer, Airframe and Propulsion Branch, ANE-171, FAA, New York Aircraft Certification Office, 1600 Stewart Avenue, suite 410, Westbury, New York 11590; telephone (516) 228-7312; fax (516) 794-5531.

SUPPLEMENTARY INFORMATION:

Comments Invited

We invite you to submit any written relevant data, views, or arguments regarding this proposed AD. Send your comments to an address listed under ADDRESSES. Include “Docket No. FAA-2005-21139; Directorate Identifier 2003-NM-196-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You can examine the AD docket on the Internet at http://dms.dot.gov, or in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified us that an unsafe condition may exist on certain Bombardier Model CL600-1A11 (CL-600), Model CL-600-2A12 (CL-601), and Model CL-600-2B16 (CL-601-3A, CL-601-3R, and CL604) series airplanes. TCCA advises that certain main landing gear (MLG) and nose landing gear (NLG) parts that are listed as safe-life items with structural life limits in the Airworthiness Limitations Section of the Instructions for Continued Airworthiness, could be removed from a landing gear and re-installed on another landing gear. These parts may not have part numbers or serial numbers, making tracking difficult. This condition, if not corrected, could result in life-limited landing gear parts being used beyond their safe-life limits, which could lead to collapse of the landing gear.

Relevant Service Information

Bombardier has issued the service bulletins listed in the following table. These service bulletins describe procedures for assigning part numbers or serial numbers to certain MLG and NLG life-limited parts.

Bombardier Service Bulletins
Bombardier service bulletin | Revision | Date | Model
600-0710 | 01 | December 15, 2003 | CL600-1A11 (CL-600) series airplanes.
601-0546 | 01 | December 15, 2003 | CL-600-2A12 (CL-601) and CL-600-2B16 (CL-601-3A, and CL-601-3R) series airplanes.
604-32-014 | Original | May 31, 2002 | CL-600-2B16 (CL-604) series airplanes.

Bombardier has also issued the following Canadair temporary revisions (TR) to the applicable Airworthiness Limitations Section for the Instructions for Continued Airworthiness of the applicable Canadair Time-Limits/Maintenance Check Manual. These TRs incorporate new life limits for the landing gear parts described in the Bombardier service bulletins.

Canadair Temporary Revisions
Temporary revision | Applicable Canadair time- limits/maintenance check manual | Manual section | Model
5-116, dated April 11, 2002 | PSP 605 | 5-10-10 | CL600-1A11 (CL-600) series airplanes.
5-190, dated April 11, 2002 | PSP 601-5 | 5-10-10 | CL-600-2A12 (CL-601) and Model CL-600-2B16, (CL-601-3A and CL-601-3R) series airplanes.
5-191, dated April 11, 2002 | PSP 601-5 | 5-10-11 | CL-600-2A12 (CL-601) and Model CL-600-2B16, (CL-601-3A and CL-601-3R) series airplanes.
5-192, dated April 11, 2002 | PSP 601-5 | 5-10-12 | CL-600-2A12 (CL-601) and Model CL-600-2B16, (CL-601-3A and CL-601-3R) series airplanes.
5-2-6, dated April 11, 2002 | CL-604 | 5-10-10 | CL-600-2B16, (CL-604) series airplanes.
5-204, dated April 11, 2002 | PSP 601A-5 | 5-10-10 | CL-600-2A12 (CL-601) and Model CL-600-2B16, (CL-601-3A and CL-601-3R) series airplanes.
5-205, dated April 11, 2002 | PSP 601A-5 | 5-10-11 | CL-600-2A12 (CL-601) and Model CL-600-2B16, (CL-601-3A and CL-601-3R) series airplanes.
5-206, dated April 11, 2002 | PSP 601A-5 | 5-10-12 | CL-600-2A12 (CL-601) and Model CL-600-2B16, (CL-601-3A and CL-601-3R) series airplanes.

We have determined that accomplishment of the actions specified in the service information will adequately address the unsafe condition. TCCA mandated the service information and issued Canadian airworthiness directives CF-2003-18R1, dated January 17, 2005; CF-2003-20, dated July 24, 2003; and CF-2003-21R1, dated January 21, 2005; to ensure the continued airworthiness of these airplanes in Canada.

The Bombardier service bulletins refer to the following Messier-Dowty service bulletins as additional sources of service information for adding part numbers or serial numbers by vibro-peening the numbers on MLG and NLG components that do not have them. The Messier-Dowty service bulletins also give instructions for ensuring that the new serial numbers are listed in the aircraft log as life-limited parts, and for determining the number of landings for parts without a part number or serial number on which the time since new and cycles since new have not been tracked.

Messier-Dowty Service Bulletins
Messier-Dowty service bulletin | Model | Landing gear component | Corresponding Bombardier service bulletin(s)
M-DT SB104467009/010-32-1, dated March 19, 2001 | CL600-1A11 (CL-600), CL-600-2A12 (CL-601) and CL-600-2B16 (CL-601-3A and CL-601-3R) series airplanes | MLG side strut retraction actuator eye bolt | 600-0710 and 601-0546.
M-DT SB19090-32-4, dated March 19, 2001 | CL-600-2B16 (CL-604) series airplanes | MLG shock strut | 604-32-014.
M-DT SB20020-32-5, dated July 12, 2001 | CL-600-2B16 (CL-604) series airplanes | NLG shock strut | 604-32-014.
M-DT SB200814001-32-3, dated March 19, 2001 | CL600-1A11 (CL-600), CL-600-2A12 (CL-601), and CL-600-2B16 (CL-601-3A and CL-601-3R) series airplanes | NLG drag brace hinge pin | 600-0710 and 601-0546.
M-DT SB200922001/2-32-6, dated March 19, 2001 | CL600-1A11 (CL-600) series airplanes | MLG shock strut | 600-0710.
M-DT SB200924003/004-32-16, dated July 12, 2001 | CL600-1A11(CL-600) series airplanes | NLG shock strut | 600-0710.
M-DT SB6100-32-10, dated March 19, 2001 | CL-600-2A12 (CL-601) and CL-600-2B16 (CL-601-3A and CL-601-3R) series airplanes | MLG side strut retraction actuator | 600-0710 and 601-0546.
M-DT SB6500-32-1, dated March 19, 2001 | CL600-1A11 (CL-600), CL-600-2A12 (CL-601), and CL-600-2B16 (CL-601-3A and CL-601-3R) series airplanes | MLG side strut retraction actuator | 600-0710 and 601-0546.
M-DT SB7200-32-6, dated March 19, 2001 | CL600-1A11 (CL-600), CL-600-2A12 (CL-601), and CL-600-2B16 (CL-601-3A and CL-601-3R) series airplanes | NLG drag brace hinge pin | 600-0710 and 601-0546.
M-DT SB7300-32-16, dated July 12, 2001 | CL-600-2A12 (CL-601) and CL-600-2B16 (CL-601-3A and CL-601-3R) series airplanes | NLG shock strut | 601-0546.

FAA's Determination and Requirements of the Proposed AD

These airplane models are manufactured in Canada and are type-certificated for operation in the United States under the provisions of § 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for products of this type design that are certificated for operation in the United States. Therefore, we are proposing this AD, which would require operators to assign serial numbers or part numbers to certain landing gear parts; and to establish the number of landings on the parts, if necessary. This proposed AD also would require operators to revise the Airworthiness Limitations section of the Instructions for Continued Airworthiness to reflect the new life limits of the landing gear parts. The proposed AD would require you to use the service information described previously to perform these actions, except as discussed under “Difference Between the Proposed AD and the Bombardier Service Bulletins.”

Difference Between the Proposed AD and the Bombardier Service Bulletins

The Bombardier service bulletins request that operators submit incorporation notices to Bombardier after each new part/serial number and landings assigned to these parts are added. This proposed AD does not include this action.

Clarification of Compliance Time

Canadian airworthiness directive CF-2003-18R1, dated January 17, 2005, does not list specific compliance times in paragraph D for recording the number of landings. For those airplanes affected by Canadian airworthiness directive CF-2003-18R1, this proposed AD would require compliance at the applicable compliance time listed in paragraphs A and B of that airworthiness directive.

Costs of Compliance

The following table provides the estimated costs for U.S. operators to assign serial numbers or part numbers to certain landing gear parts to comply with this proposed AD.

Estimated Costs
Model | Work hours | Average labor rate per hour | Parts | Cost per airplane | Number of U.S.- registered airplanes | Fleet cost
CL600-1A11 (CL-600) | 13 | $65 | None | $845 | 54 | $45,630
CL-600-2A12 (CL-601), CL-600-2B16 (CL-601-3A and CL-601-3R) | 9 | 65 | None | 585 | 128 | 74,880
CL-600-2B16 (CL604) | 5 | 65 | None | 325 | 119 | 38,675

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly Canadair): Docket No. FAA-2005-21139; Directorate Identifier 2003-NM-196-AD.

Comments Due Date

(a) The Federal Aviation Administration must receive comments on this AD action by June 8, 2005.

Affected ADs

(b) None.

Applicability

(c) This AD applies to the Bombardier airplane models, certificated in any category, listed in Table 1 of this AD.

Table 1.—Applicability
Bombardier model— | As identified in Bombardier service bulletin—
CL600-1A11 (CL-600) series airplanes | 600-0710, Revision 01, dated December 15, 2003.
CL-600-2A12 (CL-601) and CL-600-2B16 (CL-601-3A, and CL-601-3R) series airplanes | 601-0546, Revision 01, dated December 15, 2003.
CL-600-2B16 (CL-604) series airplanes | 604-32-014, dated May 31, 2002.

Unsafe Condition

(d) This AD was prompted by reports that landing gear parts that have safe-life limits but do not have serial numbers or part numbers can be removed from one landing gear and re-installed on another, making tracking difficult. We are issuing this AD to prevent life-limited landing gear parts from being used beyond their safe-life limits, which could lead to collapse of the landing gear.

Compliance

(e) You are responsible for having the actions required by this AD performed within the compliance times specified, unless the actions have already been done.

Add Serial Numbers or Part Numbers

(f) At the applicable compliance time specified in paragraph (f)(1), (f)(2), or (f)(3) of this AD: Add serial numbers and part numbers, as applicable, to the parts identified in the service bulletins. Do all actions in accordance with the applicable service bulletin.

(1) For parts identified in the Bombardier Service Bulletin 600-0710, Revision 01, dated December 15, 2003; and Bombardier Service Bulletin 601-0546, Revision 01, dated December 15, 2003; as having a compliance time of “five years for the parts listed in Part A”: Within 60 months after the effective date of this AD.

(2) For parts identified in Bombardier Service Bulletin 600-0710, Revision 01, dated December 15, 2003; and Bombardier Service Bulletin 601-0546, Revision 01, dated December 15, 2003; as having a compliance time of “ten years for the parts listed in Part B”: Within 120 months after the effective date of this AD.

(3) For parts identified in the Bombardier Service Bulletin 604-32-014, dated May 31, 2002, as having a compliance time of “no later than a calendar time of 8 years”: Within 96 months after the effective date of this AD.

Note 1: The Bombardier service bulletins refer to the Messier-Dowty service bulletins in Table 2 of this AD as additional sources of service information for adding part numbers or serial numbers by vibro-peening the numbers on MLG and NLG components that do not have them; and for determining the number of landings for parts without a part number or serial number on which the time since new (TSN) and cycles since new (CSN) have not been tracked.

Table 2.—Messier-Dowty Service Bulletins
Messier-Dowty service bulletin | Model | Landing gear component | Corresponding Bombardier service bulletin(s)
M-DT SB104467009/010-32-1, dated March 19, 2001 | CL600-1A11 (CL-600), CL-600-2A12 (CL-601) and CL-600-2B16 (CL-601-3A and CL-601-3R) series airplanes | MLG side strut retraction actuator eye bolt | 600-0710 and 601-0546.
M-DT SB19090-32-4, dated March 19, 2001 | CL-600-2B16 (CL-604) series airplanes | MLG shock strut | 604-32-014.
M-DT SB20020-32-5, dated July 12, 2001 | CL-600-2B16 (CL-604) series airplanes | NLG shock strut | 604-32-014.
M-DT SB200814001-32-3, dated March 19, 2001 | CL600-1A11 (CL-600), CL-600-2A12 (CL-601) and CL-600-2B16 (CL-601-3A and CL-601-3R) series airplanes | NLG drag brace hinge pin | 600-0710 and 601-0546.
M-DT SB200922001/2-32-6, dated March 19, 2001 | CL600-1A11 (CL-600) series airplanes | MLG shock strut | 600-0710.
M-DT SB200924003/004-32-16, dated July 12, 2001 | CL600-1A11 (CL-600) series airplanes | NLG shock strut | 600-0710.
M-DT SB6100-32-10, dated March 19, 2001 | CL-600-2A12 (CL-601) and CL-600-2B16 (CL-601-3A and CL-601-3R) series airplanes | MLG shock strut pin | 601-0546.
M-DT SB6500-32-1, dated March 19, 2001 | CL600-1A11 (CL-600), CL-600-2A12 retraction (CL-601) and CL-600-2B16 (CL-601-3A and CL-601-3R) series airplanes | MLG side strut retraction actuator | 600-0710 and 601-0546.
M-DT SB7200-32-6, dated March 19, 2001 | CL600-1A11 (CL-600), CL-600-2A12 (CL-601) and CL-600-2B16 (CL-601-3A and CL-601-3R) series airplanes | NLG drag brace hinge pin | 600-0710 and 601-0546.
M-DT SB7300-32-16, dated July 19, 2001 | CL-600-2A12 (CL-601) and CL-600-2B16 (CL-601-3A and CL-601-3R) series airplanes | NLG shock strut | 601-0546.

Establish the Number of Landings

(g) At the applicable time specified in paragraph (f) of this AD: If a component does not have a S/N and the CSN or TSN were not tracked, use the formula in the applicable Messier-Dowty service bulletin in Table 2 of this AD to establish the number of landings (TSN or CSN), and record the newly calculated TSN or CSN in the aircraft log books.

Revise the Airworthiness Limitations Section (ALS)

(h) Within 30 days after the effective date of this AD, revise the ALS of the applicable Instructions for Continued Airworthiness to reflect the new life limits of the landing gear parts by inserting copies of the Canadair temporary revisions (TR) in Table 3 of this AD into the ALS of the applicable Canadair Time-Limits/Maintenance Check Manual. When the contents of the TRs are included in the general revisions of the ALS, these TRs may be removed provided the relevant information in the ALS is identical to that in the TRs.

Table 3.—Canadair Temporary Revisions
Temporary revision | Applicable Canadair time-limits/maintenance check manual | Manual section | Model
5-116, dated April 11, 2002 | PSP 605 | 5-10-10 | CL600-1A11 (CL-600) series airplanes
5-190, dated April 11, 2002 | PSP 601-5 | 5-10-10 | CL-600-2A12 (CL-601) and CL-600-2B16 (CL-601-3A and CL-601-3R) series airplanes
5-191, dated April 11, 2002 | PSP 601-5 | 5-10-11 | CL-600-2A12 (CL-601) and CL-600-2B16 (CL-601-3A and CL-601-3R) series airplanes
5-192, dated April 11, 2002 | PSP 601-5 | 5-10-12 | CL-600-2A12 (CL-601) and CL-600-2B16 (CL-601-3A and CL-601-3R) series airplanes
5-2-6, dated April 11, 2002 | CL-604 | 5-10-10 | CL-600-2B16 (CL-604) series airplanes
5-204, dated April 11, 2002 | PSP 601A-5 | 5-10-10 | CL-600-2A12 (CL-601) and CL-600-2B16 (CL-601-3A and CL-601-3R) series airplanes
5-205, dated April 11, 2002 | PSP 601A-5 | 5-10-11 | CL-600-2A12 (CL-601) and CL-600-2B16 (CL-601-3A and CL-601-3R) series airplanes
5-206, dated April 11, 2002 | PSP 601A-5 | 5-10-12 | CL-600-2A12 (CL-601) and CL-600-2B16 (CL-601-3A and CL-601-3R) series airplanes

Parts Installation

(i) As of the effective date of this AD, no person may install on any airplane a landing gear part, unless it has had the applicable part number (P/N) or serial number (S/N) added in accordance with paragraph (f) of this AD; and had the number of landings established in accordance with paragraph (g) of this AD.

No Reporting Required

(j) Although the service bulletins identified in paragraph (f) of this AD request that operators submit incorporation notices to Bombardier after each new P/N or S/N and landings assigned to these parts is added, this AD does not include that action.

Actions Done in Accordance With Previous Issues of Service Bulletins

(k) Actions done before the effective date of this AD in accordance with Bombardier Service Bulletin 601-0546, dated May 31, 2002; and Bombardier Service Bulletin 600-0710, dated May 31, 2002; are acceptable for compliance with the corresponding action specified in this AD.

Alternative Methods of Compliance (AMOCs)

(l) The Manager, New York Aircraft Certification Office, FAA, has the authority to approve AMOCs for this AD, if requested using the procedures found in 14 CFR 39.19.

Related Information

(m) Canadian airworthiness directives CF-2003-18R1, dated January 17, 2005; CF-2003-20, dated July 24, 2003; and CF-2003-21R1, dated January 21, 2005; also address the subject of this AD.

Issued in Renton, Washington, on April 29, 2005.
Ali Bahrami,
Manager, Transport Airplane Directorate, Aircraft Certification Service.

[FR Doc. 05-9186 Filed 5-6-05; 8:45 am]

BILLING CODE 4910-13-P